DEPARTMENT OF THE TREASURY

Federal Law Enforcement Training Center

Meeting

AGENCY: Federal Law Enforcement Training Center, Treasury.

ACTION: Notice of meeting.

SUMMARY: The Advisory Committee to the National Center for State and Local Law Enforcement Training at the Federal Law Enforcement Training Center will meet on October 25, 2000. The agenda for this meeting includes remarks by the Committee Co-Chairs, Karen Wehner, Deputy Assistant Secretary (LE), Department of the Treasury, and Mary Lou Leary, Acting Assistant Attorney General, Office of Justice Programs, Department of Justice; progress reports on initiatives and training programs; and presentations on collaborative programs presented by the National Center.

ADDRESSES: FLTEC Artesia Facility, 1300 W. Richey Avenue, Artesia, New Mexico.

FOR FURTHER INFORMATION CONTACT: Bruce P. Brown, Director, National Center for State and Local Law Enforcement Training, Federal Law Enforcement Training Center, Glynco, GA 31524, 912-267-2322.

Authority: The Federal Advisory Committee Act, as amended (41 CFR Part 101-6.1015(b)).

Dated: September 26, 2000.
Denise Franklin,
Acting Director, National Center for State and Local Law Enforcement Training.

[FR Doc. 00-25329 Filed 10-2-00; 8:45 am]

BILLING CODE 4810-32-P